ENVIRONMENTAL PROTECTION AGENCY

40 CFR Part 300

[EPA-HQ-SFUND-2005-0011; FRL-9908-65-Region 5]

National Oil and Hazardous Substance Pollution Contingency Plan; National Priorities List: Deletion of the Eau Claire Municipal Well Field Superfund Site

AGENCY: Environmental Protection Agency.

ACTION: Direct final rule.

SUMMARY: The U.S. Environmental Protection Agency (EPA) Region 5 is publishing a direct final notice of deletion of the Eau Claire Municipal Well Field Superfund Site (Site) located in Eau Claire, Wisconsin, from the National Priorities List (NPL). The NPL, promulgated pursuant to Section 105 of the Comprehensive Environmental Response, Compensation, and Liability Act (CERCLA) of 1980, as amended, is an appendix to the National Oil and Hazardous Substances Pollution Contingency Plan (NCP). This direct final deletion is being published by EPA with the concurrence of the State of Wisconsin, through the Wisconsin Department of Natural Resources (WDNR), because EPA has determined that all appropriate response actions under CERCLA have been completed. However, this deletion does not preclude future actions under Superfund.

DATES: This direct final deletion is effective May 27, 2014 unless EPA receives adverse comments by April 28, 2014. If adverse comments are received, EPA will publish a timely withdrawal of the direct final deletion in the Federal Register informing the public that the deletion will not take effect.

ADDRESSES: Submit your comments, identified by Docket ID no. EPA-HQ-SFUND-2005-0011, by one of the following methods:

• http://www.regulations.gov. Follow online instructions for submitting comments.

• Email: Howard Caine, Remedial Project Manager, at howard.caine@epa.gov or Susan Pastor, Community Involvement Coordinator, at pastor.susan@epa.gov.

• Fax: Gladys Beard, NPL Deletion Process Manager at (312) 886-4071.

• Mail: Howard Caine, Remedial Project Manager, U.S. Environmental Protection Agency (SR-6J), 77 West Jackson Boulevard, Chicago, IL 60604, (312) 353-9685, or Susan Pastor, Community Involvement Coordinator, U.S. Environmental Protection Agency (SI-7J), 77 West Jackson Boulevard, Chicago, IL 60604, (312) 353-1325 or (800) 621-8431.

• Hand delivery: Susan Pastor, Community Involvement Coordinator, U.S. Environmental Protection Agency (SI-7J), 77 West Jackson Boulevard, Chicago, IL 60604. Such deliveries are only accepted during the docket's normal hours of operation, and special arrangements should be made for deliveries of boxed information. The normal business hours are Monday through Friday, 8:30 a.m. to 4:30 p.m. CST, excluding federal holidays.

Instructions: Direct your comments to Docket ID no. EPA-HQ-SFUND-2005-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information may not be publicly available, e.g., CBI or other information whose disclosure is restricted by statute. Certain other material, such as copyrighted material, will be publicly available only in the hard copy. Publicly available docket materials are available either electronically at http://www.regulations.gov or in hard copy at:

• U.S. Environmental Protection Agency-Region 5, 77 West Jackson Boulevard, Chicago, IL 60604, Phone: (312) 353-1063.

Hours: Monday through Friday, 8:30 a.m. to 4:30 p.m. CST, excluding federal holidays.

• L.E. Phillips Memorial Public Library, 400 Eau Claire St., Eau Claire, WI 54701. Phone: (715) 839-5004.

Hours: Monday through Thursday, 10:00 a.m. to 9: 00 p.m., Friday 10:00 a.m. to 6:00 p.m., Saturday 10:00 a.m. to 5:00 p.m., Sunday 1:00 p.m. to 5:00 p.m. However, the library is closed every Sunday from May 26-September 1.

FOR FURTHER INFORMATION CONTACT: Howard Caine, Remedial Project Manager, U.S. Environmental Protection Agency (SR-6J), 77 West Jackson Boulevard, Chicago, IL 60604, (312) 886-5787, or caine.howard@epa.gov.

SUPPLEMENTARY INFORMATION:

Table of Contents

I. Introduction

II. NPL Deletion Criteria

III. Deletion Procedures

IV. Basis for Site Deletion

V. Deletion Action

I. Introduction

EPA Region 5 is publishing this Direct Final Notice of Deletion of the Eau Claire Municipal Well Field Superfund Site from the National Priorities List (NPL) and requests public comments on this proposed action. The NPL constitutes Appendix B of 40 CFR part 300, which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This deletion of the Eau Claire Municipal Well Field Superfund Site is proposed in accordance with 40 CFR 300.425(e) and is consistent with the Notice of Policy Change: Deletion of Sites on the National Priorities List, (49 FR 37070), 09/21/1984. As described in 300.425(e) (3) of the NCP, sites deleted from the NPL remain eligible for Fund-financed remedial actions if future conditions warrant such actions.

Because EPA considers this action to be noncontroversial and routine, this action will be effective May 27, 2014 unless EPA receives adverse comments by April 28, 2014. Along with this Direct Final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Eau Claire Municipal Well Field Site and demonstrates how it meets the deletion criteria. Section V discusses EPA's action to delete the site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA Section 121(c) and the NCP, EPA conducts five-year reviews to ensure the continued protectiveness of remedial actions where hazardous substances, pollutants, or contaminants remain at a site above levels that allow for unlimited use and unrestricted exposure. EPA may conduct such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Eau Claire Municipal Well Field Site:

(1) EPA consulted with the State of Wisconsin prior to developing this direct final Notice of Deletion and the Notice of Intent to Delete co-published today in the “Proposed Rules” section of the Federal Register.

(2) EPA has provided the State thirty (30) working days for review of this notice and the parallel Notice of Intent to Delete prior to their publication today, and the State, through the WDNR, has concurred on the deletion of the Site from the NPL.

(3) Concurrently with the publication of this direct final Notice of Deletion, a notice of the availability of the parallel Notice of Intent to Delete is being published in a major local newspaper, “Eau Claire Leader Telegram”. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Eau Claire Municipal Well Field Superfund Site from the NPL.

Site Background and History

The Eau Claire Municipal Well Field (ECMWF) site (CERCLIS ID: WID980820054) is located in Chippewa County in the Chippewa River Valley, east of the Chippewa River and approximately 2.5 miles west of the National Presto Industries (NPI) site. The ECMWF site consists of 15 municipal groundwater wells in two adjoining well fields (five in the north well field and ten in the south) that provide drinking water to approximately 60,000 residential and commercial users. All municipal wells are installed in the glacial outwash sand and gravel aquifer. In addition to these municipal wells, a number of private wells previously drew drinking water from this sand and gravel aquifer. The sand and gravel aquifer is hydraulically connected to an underlying sandstone aquifer, which is not used extensively in the area due to its low hydraulic conductivity and the water's poor aesthetic qualities. The well field is about a mile long and trends generally in a north-south direction. The ECMWF site has been used as a well field by the city for over the past 70 years. According to city personnel, prior to that time it was forested land. Current land use in the surrounding area is primarily residential, with a small park to the south and the Eau Claire airport located about one-quarter mile east of the northern portion of the city well field. It is anticipated that these land uses will continue into the foreseeable future.

In March 1981, as part of the U.S. EPA Groundwater Supply Survey, the WDNR tested the Eau Claire municipal water supply for volatile organic compounds (VOCs). Trichloroethene (TCE), 1,1-dichloroethene (1,1-DCE), 1,1-dichloroethane (1,1-DCA), and 1,1,1-trichloroethane (1,1,1-TCA) were detected in samples collected from the north well field. The WDNR informed the city of Eau Claire that the concentrations for each of the VOCs detected were below Wisconsin groundwater standards. In addition to monitoring individual municipal production wells, the city began testing private residential wells located immediately northeast of the well field. VOCs were subsequently detected in several of the residential wells sampled at levels above Wisconsin groundwater standards.

Remedial Investigation and Feasibility Study

EPA initiated a Remedial Investigation/Feasibility Study (RI/FS) at the ECMWF site in October 1984. Based on groundwater monitoring data from private wells and monitoring wells installed as part of the field investigation, the ECMWF RI identified two distinct plumes of contamination at the site, separated by a gap of approximately 1,700 feet at the Eau Claire County Airport. The ECMWF RI did not confirm the source of the groundwater contamination at the well field but suggested that the nearby National Presto Industries (NPI) property (which later became a Superfund site) could be a potential source of the groundwater contamination at the ECMWF site. Data generated during the NPI RI clearly established that waste disposal areas at the NPI site were the source of TCE contamination at the ECMWF site, and indeed, continued to release contaminants to groundwater. A separate action was taken at NPI and cleanup at the NPI site is still ongoing.

Record of Decision Findings

On June 10, 1985, EPA issued a Record of Decision (ROD) that selected a packed column air stripper as an Initial Remedial Measure (IRM) to address contamination at the ECMWF site. During the first month of operation (August 1987), influent to the air strippers was sampled and analyzed weekly for VOCs. Influent and effluent have been tested monthly thereafter. Influent and effluent samples are analyzed for VOCs according to modified Method 601 of 40 CFR part 136 by the city of Eau Claire.

Following the completion of the RI/FS, EPA issued the final ROD for the ECMWF site on March 31, 1988. The major components of the selected remedy were:

• Continued treatment of contaminated municipal water with the air stripper constructed as the IRM;

• provision of municipal water from the city of Eau Claire to private well users within or near the two plumes of groundwater contamination identified during the RI;

• installation of groundwater extraction wells in one of the two plumes of contamination; and

• discharge of untreated groundwater from extraction wells to the Chippewa River. WDNR concurred with the remedy selected by EPA for the ECMWF site. The remedies for the ECMWF site were developed to meet the following Remedial Action Objectives (RAOs):

• Prevent human ingestion of contaminated groundwater,

• Prevent inhalation of contaminants from the groundwater, and

• Restore the contaminated aquifer to water quality objectives that are protective of beneficial use within a reasonable timeframe.

Explanation of Significant Differences

After EPA issued the ECMWF site final ROD, WDNR determined that the discharge of untreated groundwater from the proposed extraction wells into the Chippewa River would not comply with Wisconsin Statute, Chapter 283, Pollution Discharge Elimination. As a result, two of the components of the ECMWF site remedy, installation of extraction wells and the discharge of untreated water, were never fully implemented. The lack of extraction wells, however, did not fundamentally alter the selected ECMWF remedy. EPA issued an Explanation of Significant Differences (ESD) in 2008 to document that these measures were not implemented and would not be implemented in the future.

The 1988 ROD states that “EPA will clean up the groundwater to non-detect for these compounds and continue to pump and treat for a period of time beyond the non-detect to assure that the target compound limits (TCLs) have been reached.” The target cumulative carcinogenic risk for the site was set at 1 × 10⁻⁶ excess lifetime cancer risk (ELCR) and apportioned across several of the site's VOC groundwater contaminants. In order to provide the desired protectiveness, the TCLs needed to be lower than federal drinking water standards (maximum contaminant levels (MCLs) under the Safe Drinking Water Act (SDWA)).

EPA and WDNR reviewed the cleanup goals upon conclusion of the 2007 Five-Year Review. The 1988 ROD had developed TCLs as groundwater cleanup goals at the ECMWF site. However, in 1985 Wisconsin had promulgated Groundwater Quality regulations in the Wisconsin Administrative Code (WAC), Chapter 140 (NR 140). An ESD was signed on December 23, 2009, to update the groundwater cleanup goals to incorporate NR 140. NR 140 provides two types of standards that are to be followed. One is the Preventive Action Limits (PALs) and the other is the Enforcement Standards (ES). WDNR concurred with the ESD which adopted enforcement standards as the groundwater cleanup goal.

Construction Activities

On behalf of EPA, the U.S. Army Corps of Engineers completed construction of the air stripper in June 1987 and the system became operational in August 1987. The city of Eau Claire operates the air stripper as a part of its drinking water distribution operations. The air stripper has been in constant operation since completion of the interim remedial action in 1987. A permanent municipal water supply has been provided to affected private well owners in the city of Eau Claire, and a permanent municipal water supply was constructed and is operating in the Town of Hallie which provides its residents with drinking water.

On April 25, 1989, EPA issued a Section 106 Administrative Order to the NPI PRPs to execute remedial action tasks consistent with the ECMWF final ROD and the data generated in the NPI RI. These activities included implementation of a temporary bottled water distribution program for those in the affected area in and adjacent to the redefined Plume 2. NPI was also required to conduct a Phased Feasibility Study (PFS) to identify and reevaluate options for a permanent alternate drinking water supply for the affected area. To ensure consistency with the ECMWF final ROD, bottled water was to be made available to all private well users in the affected area until a permanent and uncontaminated drinking water supply was fully implemented and operational.

On August 1, 1990, EPA issued a ROD for the NPI site selecting a permanent drinking water supply for the affected area in and around the redefined Plume 2. Under this ROD, the city of Eau Claire would extend its municipal service to those portions of the affected area which had been annexed to the city. The remaining portions of the affected area were to be serviced by a newly created Hallie Sanitary District (District).

The city of Eau Claire hookups were completed by November 1991. The first service connections to the District were completed in December 1991 and by mid-summer 1992 the District was fully operational and servicing the affected area within the Town of Hallie.

EPA conducted a pre-certification inspection of the District on August 19, 1992. Upon completion of the certification process by the Agency and satisfaction of the terms of the Administrative Order, the District assumed full control and responsibility, including operation and maintenance, of its drinking water system.

Remediation of off-site groundwater, including Plume 1-2 which migrated from the NPI site to the ECMWF site, was addressed in the final FS for the NPI site in conjunction with remediation of on-site source areas in the southwest corner of the NPI site. NPI also implemented an interim action for on-site plume containment pursuant to a third Section 106 Administrative Order issued to NPI on July 2, 1992. This action was designed to be consistent with the final cleanup action for the NPI site by preventing the off-site movement of contaminated groundwater through extraction and treatment. This alternative was selected in an Interim Action ROD issued for the NPI site by EPA on September 30, 1992.

The city of Eau Claire has annexed and extended municipal water service to private well owners in the area that could have been subject to impacts from the contaminated groundwater originating from the NPI site. NPI paid for the construction of two air stripping towers at the ECMWF and continues to pay for their operation. The purpose of the towers is to remove the very low concentrations, even below federal drinking water standards, of volatile organic compounds in the groundwater withdrawn by the city wells and to ensure a safe drinking water supply for the city. These engineered controls appear to be effective in their goal of protecting human health and the environment.

Institutional Controls

Institutional Controls (ICs) were required at the ECMWF site in order to ensure the protectiveness of the remedy. ICs are non-engineered instruments, such as administrative and/or legal controls, that help minimize the potential for exposure to contamination and protect the integrity of the remedy. Compliance with ICs is required to assure long-term protectiveness for any areas that do not allow for unlimited use or unrestricted exposure (UU/UE).

The ROD for the ECMWF site did not identify the need for ICs. However, the 1996 ROD for NPI acknowledges that ICs are required to ensure protectiveness of the final site-wide remedy until Plume 1-2, which impacts the ECMWF, meets the groundwater cleanup goals. Residences in the affected area who have received municipal water are still allowed to use private wells for other purposes, such as irrigation and car washing as long as there is no connection to indoor plumbing. To use these private wells, property owners must submit applications for annual permits to either the City of Eau Claire's Health Department or the Hallie Sanitary District.

The City of Eau Claire (City), Village of Lake Hallie (formerly known as the Town of Hallie), and Chippewa County have all passed ordinances to protect citizens from impacted groundwater. The City has an ordinance that bans cross connections between private water supply wells and the municipal supply. The City has also annexed properties that are within and near the identified boundaries of the NPI plume(s) in Chippewa County and provided those properties with municipal water. The City recently enacted an ordinance that restricts the construction of new private water supply wells within the City, as well as requiring the abandonment of existing supply wells. The WDNR has promulgated Chapters NR 809 and NR 811 of the Wisconsin Administrative Code, which regulate safe drinking water and the design and operation of municipal water systems, respectively. The key part of this code, as it pertains to ECMWF site, is its prohibition against cross connections and its requirement of adequate separation of potable wells from sources of contamination.

The ordinances and administrative codes enacted by the local municipalities, counties, and the state provide a strong and effective framework for protection of the local citizens against consumption of contaminated groundwater from NPI and ECMWF until the cleanup goals are attained in all plumes.

Cleanup Goals

Recent data indicates that the levels of TCE in Plume 1-2 have declined and are meeting the Wisconsin enforcement standard of 5 ppb, except for 5 groundwater monitoring wells associated with the NPI site, which exceed the enforcement standard. One of these groundwater monitoring wells is located on the NPI site property and is significantly above the enforcement standard; two groundwater monitoring wells are west of the NPI site along North Hastings Way and measures TCE between 5-6 ppb; and two groundwater monitoring wells located at and near the airport measure TCE between 5-6 ppb.

Groundwater monitoring wells on the ECMWF site, as well as the production wells, all show TCE below the enforcement standard of 5 ppb. A review of the monthly production well data by ECMWF for wells 10, 11, 15, 16, 17 and 19 shows that the TCE has not been detected except for well 19. This well does detect TCE consistently, but it is below the enforcement standard of 5 ppb. The blended production well water entering the air stripper is non-detect for any VOCs. The detection limit used by the city in its analyses is 0.7 ppb TCE. As a result, the implemented remedy at the ECMWF site has achieved the degree of cleanup as specified in the decision documents for all pathways of exposure.

Operation and Maintenance

Operation and maintenance (O&M) requirements outlined in the O&M Plan for the IRM were: (1) Routine maintenance of the air stripper as described in the manufacturer's manual; and (2) sampling and analysis requirements of stripper influent and effluent, as previously discussed. TCE, 1,1-DCE, 1,1-DCA, 1,1,1-TCA and tetrachloroethene (PCE) are monitored regularly by the city of Eau Claire to ensure compliance with Wisconsin Enforcement Standards and the Safe Drinking Water Act Maximum Contaminant Limits (MCLs) for drinking water.

Five-Year Review

EPA conducted four five-year reviews at this site; the last report was dated July 17, 2012. EPA, in consultation with the Wisconsin Department of Natural Resources (WDNR), determined that the cleanup remedy at the ECMWF site is protective of human health and the environment because cleanup standards have been met at the site. Additionally, exposure pathways from the NPI site that could result in unacceptable risks are being controlled through the use of ICs. EPA has also determined that the air strippers at ECMWF can be taken off-line as the groundwater entering the city's well field has met the cleanup standards for over 5 years and is not expected to exceed the standards in the future. The city of Eau Claire has chosen to keep the air strippers on-line in the short term, although they may turn off the air strippers at a future date. Since unlimited use/unrestricted exposure has been met at the ECMWF site, future five-year reviews are not required.

Community Involvement

Public participation activities have been satisfied as required in CERCLA Section 113(k), 42 U.S.C. 9613(k), and CERCLA section 117, 42 U.S.C. 9617. Documents in the deletion docket which EPA relied on for recommendation of the deletion of this site from the NPL are available to the public in the information repositories and at www.regulations.gov.

Determination That the Site Meets the Criteria for Deletion in the NCP

The NCP (40 CFR 300.425(e)) states that a site may be deleted from the NPL when no further response action is appropriate. EPA, in consultation with the State of Wisconsin, has determined that all required response actions have been implemented and no further response action by the responsible parties is appropriate.

V. Deletion Action

EPA, with concurrence from the State of Wisconsin through the WDNR, has determined that all appropriate response actions under CERCLA have been completed. Therefore, EPA is deleting the Site from the NPL.

Because EPA considers this action to be noncontroversial and routine, EPA is taking it without prior publication. This action will be effective May 27, 2014 unless EPA receives adverse comments by April 28, 2014. If adverse comments are received during the comment period, EPA will publish a timely withdrawal of this direct final Notice of Deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Radiation protection, Reporting and recordkeeping requirements, Superfund, Water pollution control, Water supply.

Dated: March 3, 2014.
Susan Hedman,
Regional Administrator, Region 5.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B to Part 300—[Amended]

2. Table 1 of Appendix B to part 300 is amended by removing the entry for “WI”, “Eau Claire Municipal Well Field”, “Eau Claire”.

[FR Doc. 2014-06817 Filed 3-27-14; 8:45 am]

BILLING CODE 6560-50-P